DEPARTMENT OF ENERGY

Availability of the Final Environmental Impact Statement for the Conveyance and Transfer of Certain Land Tracts Administered by the Department of Energy and Located at Los Alamos National Laboratory, Los Alamos and Santa Fe Counties, NM

AGENCY: Department of Energy.

ACTION: Notice of Availability.

SUMMARY: The Department of Energy (DOE) announces the availability of the Final Environmental Impact Statement for the Conveyance and Transfer of Certain Land Tracts Administered by the Department of Energy and Located at Los Alamos National Laboratory, Los Alamos and Santa Fe Counties, New Mexico (CT EIS), DOE/EIS-0293. DOE prepared the CT EIS pursuant to Public Law 105-119. The CT EIS provides DOE and its stakeholders an analysis of the environmental impacts that could result from DOE's conveyance or transfer of up to approximately 4,800 acres of land located in north-central New Mexico to either the Incorporated County of Los Alamos or the Secretary of the Interior, in trust for the Pueblo of San Ildefonso. DOE distributed the CT EIS (which is dated October 1999) in January 2000, concurrent with a related Report to Congress (the Combined Data Report) that is also required by Public Law 105-119.

ADDRESSES: Written requests for copies of the CT EIS or requests for information about the proposed action should be directed to: Elizabeth Withers, CT EIS Document Manager, U.S. DOE, Los Alamos Area Office, 528 35th Street, Los Alamos, NM 87544; by calling Ms. Withers at (505) 667-8690; fax (505) 665-4872; or electronic mail at cteis@doeal.gov. The CT EIS will be available under the NEPA Analysis Module of the DOE NEPA Web Site at http://tis.eh.doe.gov/nepa/.

FOR FURTHER INFORMATION CONTACT: For general information on the DOE NEPA process, please contact Ms. Carol M. Borgstrom, Director, Office of NEPA Policy and Assistance, EH-42, Department of Energy, 1000 Independence Ave., SW, Washington, D.C. 20585. Ms. Borgstrom may be contacted by calling (202) 586-4600 or by leaving a message at (800) 472-2756.

SUPPLEMENTARY INFORMATION: The CT EIS was prepared under the National Environmental Policy Act of 1969 (NEPA) [42 U.S.C. 4321 et seq.], the Council on Environmental Quality NEPA regulations [40 CFR Part 1500] and the DOE NEPA regulations [10 CFR Part 1021]. DOE held public hearings on the Draft CT EIS in Pojoaque and Los Alamos, New Mexico, during a 45-day public comment period that ended April 12, 1999. DOE considered all public comments received in preparing this Final CT EIS.

In accordance with Section 632 of Public Law 105-119, enacted on November 26, 1997, DOE proposes to convey or transfer certain land tracts located at Los Alamos National Laboratory that are not needed to support DOE's national security mission and that can be environmentally remediated or restored before November 26, 2007, by either conveyance to the Incorporated County of Los Alamos, or by transfer to the Secretary of the Interior, in trust for the Pueblo of San Ildefonso. Criteria established by Public Law 105-119 for determining if land is suitable for conveyance or transfer include the requirement that the land be suitable for use by the named recipients for the purposes of environmental, historic or cultural preservation, economic diversification purposes, or community self-sufficiency purposes.

The CT EIS analyzes two alternatives: (1) The No Action Alternative and (2) the Conveyance and Transfer of Each Tract Alternative (the Proposed Action). Under the No Action Alternative, DOE would continue its historical use of each of the land tracts identified as potentially being suitable for conveyance and transfer. Under the Conveyance and Transfer of Each Tract (Proposed Action) Alternative, the conveyance or transfer of each tract identified as suitable is considered, either in whole or in part, to either Los Alamos County or their designee, or the Secretary of the Interior in trust for the Pueblo of San Ildefonso. DOE's Preferred Alternative is a subset of the Proposed Action Alternative, namely to convey or transfer approximately 4,021 acres, including several of the tracts of land entirely and several tracts in part (portions without potential contamination issues or mission support questions). Environmental restoration activities would continue under current or future plans for the tracts that require such action and will include coordination with the State of New Mexico and public involvement.

The CT EIS compares the environmental impacts that could be expected to occur from continuing to use the subject tracts of land as currently planned for the next 10 years with the direct consequences expected from conveying or transferring suitable tracts, in whole or in part, to the recipients named in Public Law 105-119, together with the indirect consequences expected from the subsequent development and use of the tracts by the receiving parties. Floodplain and wetlands assessments are included in an appendix to the CT EIS. In accordance with Public Law 105-119, DOE has also issued a separate Environmental Restoration Report for the land tracts being considered for conveyance or transfer. The Environmental Restoration Report describes the type and extent of environmental contamination, the regulatory status of the site contamination, potential waste generation associated with the environmental cleanup, and the estimated costs and duration of cleanups. The Environmental Restoration Report can be obtained by contacting Ms. Elizabeth Withers as indicated in the ADDRESSES section above.

In accordance with Public Law 105-119, DOE prepared and sent to Congress the Combined Data Report, which summarizes the CT EIS and the Environmental Restoration Report. DOE also has distributed copies of the CT EIS and the associated Environmental Restoration Report to the State of New Mexico, American Indian tribal and pueblo governments, local county governments, other Federal agencies, and other interested parties.

DOE intends to issue a Record of Decision in early 2000, and will consider the information in the Final CT EIS and the Environmental Restoration Report, and other factors such as economic and technical considerations, in deciding the action it will take regarding the conveyance and transfer of the subject tracts.

Issued in Washington, D.C., on January 21, 2000.

Henry Garson,
NEPA Compliance Officer, Defense Programs.

[FR Doc. 00-2066 Filed 1-31-00; 8:45 am]

BILLING CODE 6450-01-P